DEPARTMENT OF JUSTICE

Drug Enforcement Administration

Agency Information Collection Activities: Proposed Collection; Comment Requested

ACTION: Notice of Information Collection Under Review; Extension of a currently approved collection; Application for Individual Manufacturing Quota for a Basic Class of Controlled Substance. (DEA Form 189).

The Department of Justice, Drug Enforcement Administration (DEA), has submitted the following information collection request for review and clearance in accordance with the Paperwork Reduction Act of 1995. This proposed information is published to obtain comments from the public and affected agencies. Comments are encouraged and will be accepted until May 14, 2001.

If you have additional comments, suggestions, or need a copy of the proposed information collection instrument with instructions or additional information, please contact Mr. Frank L. Sapienza, Chief, Drug and Chemical Evaluation Section, Office of Diversion Control, Drug Enforcement Administration, U.S. Department of Justice, Washington, DC 20537, telephone 202-307-7183.

Written comments and suggestions from the public and affected agencies concerning the proposed collection of information should address one or more of the following four points:

1. Evaluate whether the proposed collection of information is necessary for the proper performance of the function of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submission of responses.

Overview of this information:

1. Type of information collection: Extension of a currently approved collection.

2. The title of the form/collection: Application for Individual Manufacturing Quota for a Basic Class of Controlled Substance.

3. The agency form number, if any, and the applicable component of the Department sponsoring the collection: Form number: DEA Form 189. Applicable component of the Department sponsoring the collection: Office of Diversion Control, Drug Enforcement Administration, U.S. Department of Justice.

4. Affected public who will be asked or required to respond, as well as brief abstract: Primary: Business or other for-profit. Other: None.

Abstract: Title 21, CFR, Section 1303.22, requires that any person who is registered to manufacture any basic class of controlled substance listed in Schedule I or II and who desires to manufacture a quantity of such class must apply on DEA Form 189 for a manufacturing quota for such quantity of such class.

5. An estimate of the total number of respondents, responses and the amount of time estimated for an average respondent to respond/reply annually: 30 respondents, 263 responses, .5 hour per response. A respondent may submit multiple responses. A respondent will take a estimate of 30 minutes to complete each form.

6. An estimate of the total public burden (in hours) associated with the collection: 131.5 annual burden hours.

Public comments on this proposed information collection are strongly encouraged.

If additional information is required contact: Mr. Robert B. Briggs, Clearance Officer, United States Department of Justice, Information Management and Security Staff, Justice Management Division, National Place Building, 1331 Pennsylvania Avenue, Suite 1220, NW, Washington, DC 20530.

Dated: March 7, 2001.
Robert B. Briggs,
Department Clearance Officer, United States Department of Justice.

[FR Doc. 01-6129 Filed 3-12-01; 8:45 am]

BILLING CODE 4410-09-M